DEPARTMENT OF TRANSPORTATION

Federal Motor Carrier Safety Administration

[Docket ID. FMCSA-2009-0121]

Qualification of Drivers; Exemption Applications; Vision

AGENCY: Federal Motor Carrier Safety Administration (FMCSA), DOT.

ACTION: Notice of applications for exemptions; request for comments.

SUMMARY: FMCSA announces receipt of applications from 23 individuals for exemption from the vision requirement in the Federal Motor Carrier Safety Regulations. If granted, the exemptions would enable these individuals to qualify as drivers of commercial motor vehicles (CMVs) in interstate commerce without meeting the Federal vision standard.

DATES: Comments must be received on or before July 2, 2009.

ADDRESSES: You may submit comments bearing the Federal Docket Management System (FDMS) Docket ID FMCSA-2009-0121 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 23 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Daniel F. Albers

Mr. Albers, age 40, has complete loss of vision due to a traumatic injury sustained in 1996. The visual acuity in his right eye is 20/20. Following an examination in 2009, his optometrist noted, “In my medical opinion, Mr. Albers has sufficient vision to perform the tasks required to operate a commercial vehicle.” Mr. Albers reported that he has driven straight trucks for 18 years, accumulating 675,000 miles, and tractor-trailer combinations for 4 years, accumulating 100,000 miles. He holds a Class A CDL from California. His driving record for the last 3 years shows no crashes and no convictions for moving violations in a CMV.

Robert L. Brown

Mr. Brown, 62, has loss of vision in his left eye due to a traumatic injury sustained in 1955. The best corrected visual acuity in his right eye is 20/20 and in his left eye, count-finger vision. Following an examination in 2008, his ophthalmologist noted, “Mr. Brown has sufficient vision to perform the driving tasks required to operate a commercial vehicle.” Mr. Brown reported that he has driven straight trucks for 11 years, accumulating 275,000 miles. He holds a Class C operator's license from Illinois. His driving record for the last 3 years shows no crashes and no convictions for moving violations in a CMV.

Nicholas Cafaro

Mr. Cafaro, 60, has a prosthetic right eye due to a traumatic injury sustained as a child. The visual acuity in his left eye is 20/20. Following an examination in 2009, his ophthalmologist noted, “In my medical opinion, he has sufficient vision to perform the driving tasks required to operate a commercial vehicle.” Mr. Cafaro reported that he has driven straight trucks for 3 years, accumulating 168,000 miles, tractor-trailer combinations for 2 years, accumulating 110,000 miles. He holds a Class A CDL from New York. His driving record for the last 3 years shows no crashes and no convictions for moving violations in a CMV.

Barry G. Church

Mr. Church, 47, has had a macular scar in his left eye since childhood. The best corrected visual acuity in his right eye is 20/15 and in his left eye, 20/400. Following an examination in 2009, his optometrist noted, “In my professional opinion, you have sufficient visual abilities to perform the driving tasks required to operate a commercial vehicle.” Mr. Church reported that he has straight trucks for 7 years, accumulating 560,000 miles, and buses for 7 years, accumulating 140,000 miles. He holds a Class D operator's license from Ohio. His driving record for the last 3 years shows no crashes and no convictions for moving violations in a CMV.

David J. Comeaux

Mr. Comeaux, 48, has had a prosthetic left eye since childhood. The visual acuity in his right eye is 20/20. Following an examination in 2009, his optometrist noted, “Mr. Comeaux has been driving commercially for years and I do not see any new problems with his vision or the health of his right eye. I feel he is capable of performing driving tasks.” Mr. Comeaux reported that he has driven straight trucks for 30 years, accumulating 450,000 miles, and tractor-trailer combinations for 30 years, accumulating 450,000 miles. He holds a Class A CDL from Louisiana. His driving record for the last 3 years shows no crashes and no convictions for moving violations in a CMV.

Timothy D. Courtney

Mr. Courtney, 48, has had parafoveal telangiectasia since 2001. The best corrected visual acuity in his right eye is 20/60 and in his left eye, 20/30. Following an examination in 2009, his optometrist noted, “It is my medical opinion that Mr. Courtney has sufficient vision to perform the driving tasks required to operate a commercial vehicle.” Mr. Courtney reported that he has driven straight trucks for 5 years, accumulating 200,000 miles, and tractor-trailer combinations for 19 years, accumulating 1.5 million miles. He holds a Class A CDL from Oregon. His driving record for the last 3 years shows no crashes and no convictions for moving violations in a CMV.

John J. Davis

Mr. Davis, 46, has optical nerve damage and retinal scarring in his right eye due to a traumatic injury sustained as a child. The best corrected visual acuity eye in his right eye is light perception, and in the left, 20/20. Following an examination in 2009, his optometrist noted, “Mr. Davis' vision is sufficient for commercial license and has sufficient vision to perform the driving tasks required to operate a commercial vehicle.” Mr. Davis reported that he has driven straight trucks for 22 years, accumulating 121,000 miles. He holds a Class B CDL from South Carolina. His driving record for the last 3 years shows no crashes and no convictions for moving violations in a CMV.

Robert R. Donoho

Mr. Donoho, 58, has had amblyopia in his left eye since birth. The best corrected visual acuity in his right eye is 20/100 and in the left, 20/20. Following an examination in 2009, his ophthalmologist noted, “It is my opinion that he has vision sufficient to perform the driving tasks required to operate a commercial vehicle.” Mr. Donoho reported that he has driven straight trucks for 9 years, accumulating 225,000 miles, and tractor-trailer combinations for 12 years, accumulating 870,000 miles. He holds a Class A CDL from Texas. His driving record for the last 3 years shows no crashes and no convictions for moving violations in a CMV.

Steven L. Forristall

Mr. Forristall, 50, has complete loss of vision in his right eye due to a traumatic injury to his cornea sustained in 1980. The best corrected visual acuity in his left eye is 20/20. Following an examination in 2009, his ophthalmologist noted, “In my opinion, Mr. Forristall has sufficient vision to perform the driving tasks required to operate a commercial vehicle.” Mr. Forristall reported that he has driven straight trucks for 31 years, accumulating 310,000 miles. He holds a Class B CDL from Wisconsin. His driving record for the last 3 years shows no crashes and no convictions for moving violations in a CMV.

Rocky D. Gysberg

Mr. Gysberg, 34, has had amblyopia in his left eye since childhood. The best corrected visual acuity in his right eye is 20/15 and in his left eye, 20/400. Following an examination in 2008, his optometrist noted, “In my opinion, Rocky is visually capable of safely performing all required driving tasks required to operate a commercial motor vehicle.” Mr. Gysberg reported that he has driven straight trucks for 2 months, accumulating 1000 miles, and tractor-trailer combinations for 8 years, accumulating 704,000 miles. He holds a Class A CDL from Minnesota. His driving record for the last 3 years shows no crashes and no convictions for moving violations in a CMV.

Randy L. Huelster

Mr. Huelster, 38, has complete loss of vision in his left eye due to a traumatic injury sustained in 2001. The visual acuity in his right eye is 20/15. Following an examination in 2009, his ophthalmologist noted, “I certify in my best medical opinion that Randy Huelster has sufficient vision to perform the driving tasks required to operate a commercial vehicle and any other vehicle of his choice.” Mr. Huelster reported that he has driven straight trucks for 9 years, accumulating 585,000 miles. He holds a Class D operator's license from Oklahoma. His driving record for the last 3 years shows no crashes and one conviction for a moving violation, speeding in a CMV. He exceeded the speed limit by 18 mph.

Robert D. Kimmel

Mr. Kimmel, 46, has optic nerve atrophy in his right eye since childhood. The best corrected visual acuity in his right eye is 20/800 and in his left eye, 20/40. Following an examination in 2008, his optometrist noted, “In my opinion, Mr. Kimmel is visually capable of operating a commercial vehicle at this time.” Mr. Kimmel reported that he has driven straight trucks for 18 years, accumulating 450,000 miles, and tractor-trailer combinations for 18 years, accumulating 540,000 miles. He holds a Class A CDL from Iowa. His driving record for the last 3 years shows no crashes and no convictions for moving violations in a CMV.

Charles H. Lefew

Mr. Lefew, 37, has loss of vision in his left eye due to a traumatic injury sustained since childhood. The visual acuity in his right eye is 20/20 and in his left eye, 20/400. Following an examination in 2009, his optometrist noted, “Has sufficient functional vision required to operate commercial vehicle.” Mr. Lefew reported that he has driven straight trucks for 5 years, accumulating 150,000 miles, and tractor-trailer combinations for 1 year, accumulating 30,000 miles. He holds a Class A CDL from Virginia. His driving record for the last 3 years shows no crashes and no convictions for moving violations in a CMV.

Steve J. Morrison

Mr. Morrison, 43, has complete loss of vision due to a congenital cataract. The best corrected visual acuity in his left eye is 20/20. Following an examination in 2009, his optometrist noted, “It is my opinion that he does have sufficient visual abilities to continue to perform driving and operating a commercial vehicle in interstate commerce.” Mr. Morrison reported that he has driven straight trucks for 26 years, accumulating 520,000 miles, and buses for 1 year, accumulating 1,500 miles. He holds a Class D operator's license from Idaho. His driving record for the last 3 years shows no crashes and no convictions for moving violations in a CMV.

Joseph B. Peacock

Mr. Peacock, 30, has loss of vision in his left eye due to a traumatic injury sustained in 1995. The best corrected visual acuity in his right eye is 20/20 and in his left eye, 20/60. Following an examination in 2009, his optometrist noted, “Based on the eye examination, I feel that Mr. Peacock has more than adequate visual acuity and peripheral vision to safely operate a commercial vehicle at this time.” Mr. Peacock reported that he has driven straight trucks for 8 years, accumulating 56,000 miles, and tractor-trailer combinations for 8 years, accumulating 4,000 miles. He holds a Class A CDL from North Carolina. His driving record for the last 3 years shows no crashes and no convictions for moving violations in a CMV.

Mark A. Pirl

Mr. Pirl, 45, has had amblyopia in his left eye since birth. The best corrected visual acuity in his right eye is 20/20 and in his left eye, 20/200. Following an examination in 2009, his ophthalmologist noted, “In my medical opinion, this patient has sufficient vision to perform the driving tasks required to operate a commercial vehicle.” Mr. Pirl reported that he has driven tractor-trailer combinations for 17 years, accumulating 850,000 miles. He holds a Class A CDL from North Carolina. His driving record for the last 3 years shows no crashes and no convictions for moving violations in a CMV.

Frank Price, Jr.

Mr. Price, 50, has had amblyopia in his right eye since childhood. The best corrected visual acuity in his right eye is 20/20 and in his left eye, 20/200. Following an examination in 2009, his optometrist noted, “In my opinion, Mr. Price has sufficient vision to perform the driving tasks required to operate a commercial vehicle.” Mr. Price reported that he has driven tractor-trailer combinations for 15 years, accumulating 1.6 million miles. He holds a Class A CDL from North Carolina. His driving record for the last 3 years shows no crashes and no convictions for moving violations in a CMV.

Terry L. Pruitt

Mr. Pruitt, 58, has had amblyopia in his left eye since birth. The best corrected visual acuity in his right eye is 20/20 and in his left eye, 20/60. Following an examination in 2008, his optometrist noted, “Mr. Pruitt's ocular hypertension or amblyopia does not affect his ability to operate a commercial vehicle.” Mr. Pruitt reported that he has driven tractor-trailer combinations for 36 years, accumulating 4.5 million miles. He holds a Class A CDL from Kentucky. His driving record for the last 3 years shows no crashes and no convictions for moving violations in a CMV.

Joseph E. Salter

Mr. Salter, 50, has had amblyopia in his left eye since birth. The best corrected visual acuity in his right eye is 20/20 and in his left eye, 20/100. Following an examination in 2009, his optometrist noted, “In my medical opinion, he has sufficient vision to perform the driving tasks required to operate a commercial vehicle and he should have no restrictions relating to his vision and driving.” Mr. Salter reported that he has driven straight trucks for 6 years, accumulating 123,498 miles, and tractor-trailer combinations for 5½ years, 154,781 miles. He holds a Class A CDL from Tennessee. His driving record for the last 3 years shows no crashes and no convictions for moving violations in a CMV.

Charles A. Terry

Mr. Terry, 61, has had amblyopia in his right eye since childhood. The best corrected visual acuity in his right eye is 20/20 and in his left eye, 20/80. Following an examination in 2009, his optometrist noted, “I, Dr. Dubose do attest that in my medical opinion, Mr. Terry does have sufficient vision to perform the necessary tasks that are required to operate a commercial vehicle.” Mr. Terry reported that he has driven straight trucks for 3 years, accumulating 120,000 miles, and tractor-trailer combinations for 22 years, 1.6 million miles. He holds a Class A CDL from Alabama. His driving record for the last 3 years shows no crashes and one conviction for a moving violation, speeding in a CMV. He exceeded the speed limit by 12 mph.

Steven L. Thomas

Mr. Thomas, 51, has endophthalmitis in his left eye after cataract surgery in 1997. The best corrected visual acuity in his right eye is 20/15 and in the left, 20/400. Following an examination in 2009, his optometrist noted, “Mr. Thomas has sufficient vision to drive and operate a commercial vehicle.” Mr. Thomas reported that he has driven straight trucks for 15 years, accumulating 150,000 miles, and tractor-trailer combinations for 22 years, accumulating 770,000 miles. He holds a Class A CDL from Indiana. His driving record for the last 3 years shows no crashes and no convictions for moving violations in a CMV.

Daniel A. Wescott

Mr. Wescott, 56, has had amblyopia in his left eye since birth. The best corrected visual acuity in his right eye is 20/20 and in his left eye, 20/400. Following an examination in 2009, his optometrist noted, “The result of his vision exam does in my medical opinion qualify him to drive a commercial vehicle.” Mr. Wescott reported that he has driven straight trucks for 10 years, accumulating 130,000 miles, and tractor-trailer combinations for 26 years, accumulating 780,000 miles. He holds a Class A CDL from Colorado. His driving record for the last 3 years shows no crashes and no convictions for moving violations in a CMV.

Donald J. Zuza

Mr. Zuza, 62, has central retinal artery occlusion in his right eye. The best corrected visual acuity in his right eye is count-finger vision and in his left eye, 20/25. Following an examination in 2009, his ophthalmologist noted, “In my medical opinion, Donald Zuza has sufficient vision to perform driving tasks required to operate a commercial vehicle.” Mr. Zuza reported that he has driven straight trucks for 33 years, accumulating 330,000 miles. He holds a Class D operator's license from New Jersey. His driving record for the last 3 years shows no crashes and no convictions for moving violations in a CMV.

Request for Comments

In accordance with 49 U.S.C. 31136(e) and 31315, FMCSA requests public comment from all interested persons on the exemption petitions described in this notice. The Agency will consider all comments received before the close of business July 2, 2009. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: May 26, 2009.
Larry W. Minor,
Associate Administrator for Policy and Program Development.

[FR Doc. E9-12770 Filed 6-1-09; 8:45 am]

BILLING CODE 4910-EX-P